DEPARTMENT OF ENERGY

Federal Energy Regulatory Commission

[Docket No. RM98-1-000]

Records Governing Off-the Record Communications; Public Notice

March 23, 2005.

This constitutes notice, in accordance with 18 CFR 385.2201(b), of the receipt of prohibited and exempt off-the-record communications.

Order No. 607 (64 FR 51222, September 22, 1999) requires Commission decisional employees, who make or receive a prohibited or exempt off-the-record communication relevant to the merits of a contested proceeding, to deliver to the Secretary, a copy of the communication, if written, or a summary of the substance of any oral communication.

Prohibited communications are included in a public, non-decisional file associated with, but not a part of, the decisional record of the proceeding. Unless the Commission determines that the prohibited communication and any responses thereto should become a part of the decisional record, the prohibited off-the-record communication will not be considered by the Commission in reaching its decision. Parties to a proceeding may seek the opportunity to respond to any facts or contentions made in a prohibited off-the-record communication, and may request that the Commission place the prohibited communication and responses thereto in the decisional record. The Commission will grant such a request only when it determines that fairness so requires. Any person identified below as having made a prohibited off-the-record communication shall serve the document on all parties listed on the official service list for the applicable proceeding in accordance with Rule 2010, 18 CFR 385.2010.

Exempt off-the-record communications are included in the decisional record of the proceeding, unless the communication was with a cooperating agency as described by 40 CFR 1501.6, made under 18 CFR 385.2201(e)(1)(v).

The following is a list of off-the-record communications recently received in the Office of the Secretary. The communications listed are grouped by docket numbers in ascending order. These filings are available for review at the Commission in the Public Reference Room or may be viewed on the Commission's Web site at http://www.ferc.gov using the eLibrary (FERRIS) link. Enter the docket number, excluding the last three digits, in the docket number field to access the document. For assistance, please contact FERC, Online Support at FERCOnlineSupport@ferc.gov or toll free at (866) 208-3676, or for TTY, contact (202) 502-8659.

Docket No. | Date filed | Presenter or requester
Prohibited:
1. CP04-36-000, CP04-41-000, CP04-223-000, CP04-293-000 | 3-7-05 | Roger Mandle.
2. CP04-36-000, CP04-41-000, CP04-223-000, CP04-293-000 | 3-14-05 | Captain Benjamin C. Riggs, Jr.
3. EL04-102-000, ER03-563-030 | 2-28-05 | James J. Cullen.
4. EL04-102-000, ER03-563-030 | 2-28-05 | H. McKinnell.
5. EL04-102-000, ER03-563-030 | 2-28-05 | Anne M. Mulcahy.
6. EL04-102-000, ER03-563-030 | 2-28-05 | David H. Stahelski.
7. EL04-102-000, ER03-563-030 | 3-2-05 | Steven Townsend.
8. EL04-102-000, ER03-563-030 | 3-4-05 | James C. Smith.
9. EL04-102-000, ER03-563-030 | 3-7-05 | Robert W. Behn.
10. EL04-102-000, ER03-563-030 | 3-7-05 | John A. Klein.
11. EL04-102-000, ER03-563-030 | 3-7-05 | Greg O'Brien.
12. EL04-102-000, ER03-563-030 | 3-8-05 | Carl N. Siemon.
13. EL04-120-000, ER03-563-030 | 3-14-05 | John P. Casey.
14. Project No. 8657-000 | 3-17-05 | Shannon Maher, Monica Maynard, John W. Montgomery, Jr., Paul V. Nolan, Michael C. Odom, Thomas A. Pursley, Charles F. Reusch, Steven F. Rothman, David W. Sutherland.¹
Exempt:
1. Project No. 8657-000, | 3-17-05 | Monica Maynard, Dick Quinn, Steven F. Rothman, Alan Weaver.²
2. Project No. 2210-108 | 3-9-05 | Hon. Bob Goodlatte.
¹ This document is one of twenty-two prohibited off-the-record communications associated with Project No. 8657-000. These documents include meeting notes and email correspondence which span a time frame from March 2004 to March 2005. These twenty-one documents, generated by the presenters listed above, will be placed in a public, non-decisional file for this proceeding.
² This document is one of seven exempt off-the-record communications associated with Project No. 8657-0000. These documents include meeting notes and email correspondence which span a time frame from September 2003 to March 2004. These exempt communications, generated by the presenters listed above, will be included in the decisional record for this docket.

Magalie R. Salas,
Secretary.

[FR Doc. E5-1415 Filed 3-30-05; 8:45 am]

BILLING CODE 6717-01-P